NATIONAL TRANSPORTATION SAFETY BOARD

Investigative Hearing

On Tuesday, June 23, 2015, the National Transportation Safety Board (NTSB) will convene a two-day investigative hearing to gather additional factual information for the ongoing investigation of the Washington Metropolitan Area Transit Authority Metrorail (WMATA) train 302 that encountered heavy smoke in the tunnel between the L'Enfant Plaza Station and the Potomac River Bridge on January 12, 2015. The NTSB Chairman Christopher Hart will preside over the investigative hearing. The Board of Inquiry consists of Chairman Hart, Vice Chairman Dinh-Zarr and Members Sumwalt and Weener.

On January 12, 2015, about 3:15 p.m. eastern standard time, Washington Metropolitan Area Transit Authority (WMATA) Metrorail train 302 stopped after encountering an accumulation of heavy smoke while traveling southbound in a tunnel between the L'Enfant Plaza Station and the Potomac River Bridge. After stopping, the rear car of the train was about 386 feet from the south end of the L'Enfant Plaza Station platform.

A following train, stopped at the L'Enfant Plaza Station at about 3:23 p.m., and was also affected by the heavy smoke. This train stopped about 100 feet short of the south end of the platform. Passengers of both trains, as well as passengers on the station platforms, were exposed to the heavy smoke.

Both Metrorail trains involved in this incident consisted of six passenger cars and were about 450 feet in length. As a result of the smoke, 86 passengers were transported to local medical facilities for treatment; another nine people sought medical attention. There was one passenger fatality.

The investigative hearing will discuss the following issue areas:

• State of WMATA's Infrastructure;

• Emergency Response Efforts;

• WMATA's Organizational Culture; and

• Federal Transit Administration and Tri-State Oversight Committees Efforts for Public Transportation safety.

Parties to the hearing will include the Federal Transit Administration, WMATA, Tri-State Oversight Committee, Amalgamated Transit Union, International Association of Fire Fighters, and District of Columbia (DC) Emergency Services, which includes three DC departments.

At the start of the hearing, the public docket will be opened. Included in the docket are photographs, interview transcripts, and other documents.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witness by Board of Inquiry, Technical Panel, and Parties

7. Closing Statement by the Chairman of the Board of Inquiry

The hearing docket is DCA15FR004.

The Investigative Hearing will be held in the NTSB Board Room and Conference Center, located at 429 L'Enfant Plaza E, SW., Washington, DC, on Tuesday, June 23, 2015 and Wednesday, June 24, 2015, beginning at 9:00 a.m. The public can view the hearing in person or by live webcast at www.ntsb.gov. Webcast archives are generally available by the end of the next day following the hearing, and webcasts are archived for a period of 3 months from after the date of the event.

Individuals requiring reasonable accommodation and/or wheelchair access directions should contact Ms. Rochelle Hall at (202) 314-6305 or by email at Rochelle.Hall@ntsb.gov by Friday, June 19, 2015.

NTSB Media Contact: Mr. Peter Knudson—Peter.Knudson@ntsb.gov

NTSB Investigative Hearing Officer: Dr. Kristin Poland—Kristin.Poland@ntsb.gov.

Candi R. Bing,
Federal Register Liaison Officer.

[FR Doc. 2015-14259 Filed 6-10-15; 8:45 am]

BILLING CODE 7533-01-P